DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from September 21 to September 25, 2009. This notice also contains cumulative Federal Determinations of Eligibility for FY 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: November 24, 2009.
J. Paul Loether,
Chief, National Register of Historic Places/National Historic Landmarks Program./

KEY: State, County, Property Name, Address/Boundary, City, Vicinity, Reference Number, Action, Date, Multiple Name

ARKANSAS

Crawford County

Old School Presbyterian Church, 421 Webster St., Van Buren, 09000740, LISTED, 9/23/09

ARKANSAS

Lonoke County

Carver Gymnasium, 400 Ferguson St., Lonoke, 09000741, LISTED, 9/23/09

ARKANSAS

Nevada County

Emmet Methodist Church, 209 S. Walnut, Emmet, 09000742, LISTED, 9/23/09

ARKANSAS

Poinsett County

Lepanto Commercial Historic District, Roughly bounded by Holmes St., Little R., Dewey St. & Alexander Ave., Lepanto, 09000743, LISTED, 9/21/09

ARKANSAS

Prairie County

St. Elizabeth's Catholic Church, NE corner of Sycamore and Mason Sts., DeValls Bluff, 09000744, LISTED, 9/23/09

ARKANSAS

Pulaski County

Bailey, Carl, Company Building, 3100 E. Broadway, North Little Rock, 09000737, LISTED, 9/23/09

ARKANSAS

Sebastian County

Old US 71—Jenny Lind Segment, Doraul Acres Ln. & part of Mt. Nebo Rd. W. of US 71., Jenny Lind vicinity, 09000738, LISTED, 9/23/09 (Arkansas Highway History and Architecture MPS)

ARKANSAS

Washington County

University of Arkansas Campus Historic District, Roughly bounded by Garland Ave., Maple St. Arkansas Ave. & Dickson St., Fayetteville, 09000745, LISTED, 9/23/09

COLORADO

Denver County

White Spot Restaurant, 601 E. Colfax Ave., Denver, 09000776, DETERMINED ELIGIBLE (Owner Objection), 9/24/09 (Commercial Resources of the East Colfax Avenue Corridor)

CONNECTICUT

Fairfield County

Five Mile River Landing Historic District, Rowayton Ave. to Jo's Barn Way, Norwalk, 08001189, LISTED, 9/23/09

CONNECTICUT,

Fairfield County

Wall Street Historic District, Roughly bounded by Commerce, Knight, and Wall Sts., W. and Mott Aves., Norwalk, 09000342, LISTED, 9/23/09

CONNECTICUT,

Hartford County

South Glastonbury Historic District Boundary Increase, 999-1417 and 1032-1420 Main St.; 6,7 Chestnut Hill Rd., Glastonbury, 09000343, LISTED, 9/24/09

FLORIDA

Orange County

Holden—Parramore Historic District, Bounded by W. Church St., S. Division Ave., Long St., McFall Ave., & S. Parramore Av., Orlando, 09000746, LISTED, 9/23/09

FLORIDA

Pinellas County

Blatchley, Willis S., House, 232 Lee St., Dunedin, 09000747, LISTED, 9/23/09

GEORGIA

Clarke County

Milledge Avenue Historic District (Boundary Increase), 295 W. Rutherford St., Athens, 09000748,LISTED, 9/24/09

GEORGIA

De Kalb County

Kirkwood Historic District, Roughly bounded by Memorial Dr., Montgomery St., Hosea Williams Dr., Rogers St., CSX RR., & city limits, Atlanta, 09000749, LISTED, 9/24/09

GEORGIA

Elbert County

Building at 6 and 7 Public Square, 6 & 7 Public Sq., Bowman, 09000750, LISTED, 9/24/09

GEORGIA

Murray County

Pleasant Valley Historic District, Roughly bounded by CSX RR., city limits, & land lot lines., Crandall, 09000751, LISTED, 9/24/09

GEORGIA

Webster County

Boyd Mill Place, 580 Mill Pond Rd., Weston vicinity, 09000752, LISTED, 9/24/09

INDIANA

Boone County

Howard School, 4555 E. Co. Rd. 750 S., Brownsburg vicinity, 09000754, LISTED, 9/24/09 (Indiana's Public Common and High Schools MPS)

INDIANA

Elkhart County

Bridge Street Bridge, Bridge St. aver St. Joseph R., Elkhart, 09000755, LISTED, 9/24/09

INDIANA

Grant County

Thompson—Ray House, 407 E. Main St., Gas City, 09000756, LISTED, 9/24/09

INDIANA

Kosciusko County

DIXIE (sternwheeler), 400 Blk. of S. Dixie Dr., North Webster, 09000757, LISTED, 9/24/09

INDIANA

La Porte County

Pinhook Methodist Church and Cemetery, 8001 IN 2, LaPorte, 09000759, LISTED, 9/24/09

INDIANA

Lake County

Morningside Historic District, Roughl bounded by E. side of Washington, W. side of Jefferson, 47th & 48th Sts., Gary, 09000758, LISTED, 9/24/09 (Historic Residential Suburbs in the United States, 1830-1960 MPS)

INDIANA

Madison County

Thawley, Joseph & Lucinda, House, 300 E. North Main St., Summitville, 09000760, LISTED, 9/24/09

INDIANA

Orange County

Orleans Historic District, Roughly bounded by Wilson, Franklin, Harrison & 4th Sts., Orleans, 09000761, LISTED, 9/24/09

INDIANA

Ripley County

Ripley County Courthouse, 115 N. Main St., Versailles, 09000762, LISTED, 9/24/09

IOWA

Clayton County

Bloedel, Christian, Wagon Works, 524-526 Main St., McGregor, 09000765, LISTED, 9/23/09

IOWA

Scott County

Linograph Company Building, The, 420 W. River Dr., Davenport, 09000764, LISTED, 9/23/09

MARYLAND

Baltimore County

Rodgers Forge Historic District, Roughly bounded by Stanmore Rd., Stevenson La., York Rd., Regester Ave., and Bellona Ave., Baltimore, 09000783, LISTED, 9/24/09

MASSACHUSETTS

Middlesex County

Franklin School, 7 Stedman Rd., Lexington, 09000437, LISTED, 9/25/09

MASSACHUSETTS

Suffolk County

Mount Hope Cemetery, 355 Walk Hill St., Boston, 09000767, LISTED, 9/24/09

OREGON

Clackamas County

Willamette Falls Neighborhood Historic District, Roughly bound by Knapps Alley, 12th St., 4th Ave., & 15th St., West Linn, 09000768, LISTED, 9/24/09

SOUTH CAROLINA

Orangeburg County

Providence Methodist Church, 4833 Old State Rd., Holly Hill, 08001395, LISTED, 9/25/09

SOUTH CAROLINA

Richland County

Columbia Central Fire Station, 1001 Senate St., Columbia, 08001396, LISTED, 9/25/09

FEDERAL DETERMINATIONS OF ELIGIBILITY: October 1, 2008—September 30, 2009

INDIANA

Putnam County

Putnam County Bridge 137, Co. Rd. 100 E. over Big Walnut Creek, Greencastle, 65009969 DETERMINED ELIGIBLE, 5/27/09

LOUISIANA

Orleans County

USS Castine Shipwreck Site, Address Restricted, New Orleans, 6500968 DETERMINED ELIGIBLE, 3/4/09

MARYLAND

Cecil County

Perry Point Village, A, B, C, D Aves., 2nd, 3rd, 4th, 5th Sts., Perry Point VA Center, Perry Point, 65009962 DETERMINED ELIGIBLE, 10/31/08

MICHIGAN

Ottawa County

Grand Haven South Pierhead Inner and Entrance Lighthouses, Grand Haven, Grand Haven, 6500974 DETERMINED ELIGIBLE, 6/3/09

MISSISSIPPI

Harrison County

Gulfport Public Library, 21st Ave., Gulfort, 65009961 DETERMINED ELIGIBLE, 10/14/08

NEVADA

Clark County,

Nellis Air Force Base, Nellis Air Force Base, Nellis Air Force Base, 65009979 DETERMINED ELIGIBLE, 9/11/09

NEW YORK

Chautauqua County

Dunkirk Schooner Site, Address Restricted, Dunkirk, 65009967 DETERMINED ELIGIBLE, 2/18/09

Queens County

Fort Tilden Historic District, Gateway National Recreation Area, Gateway National Recreation Area, 65009972 DETERMINED ELIGIBLE, 5/12/09

WISCONSIN

Kenaunee County

Kenaunee Pierhead Lighthouse, In Lake Michigan at E. end of S. pier at Kenosha River mouth, .5 mi. E. of Rte. 42, Kewaunee, 65009973 DETERMINED ELIGIBLE, 6/3/09

Manitowoc County

Manitowoc Breakwater Lighthouse, In Lake Michigan at Manitowoc River mouth, N. breakwater offshore end, .7 mi. E. of US 10, Manitowoc, 65009975 DETERMINED ELIGIBLE, 6/3/09

WASHINGTON

Benton County

Columbia Point South, Columbia Point, Columbia Point, 65009976 DETERMINED ELIGIBLE, 6/15/09

[FR Doc. E9-28635 Filed 11-30-09; 8:45 am]

BILLING CODE P